DEPARTMENT OF HEALTH AND HUMAN SERVICES

Centers for Disease Control and Prevention

[Program Announcement 01196]

Evaluation of Breast Cancer Incidence; Notice of Availability of Funds; Amendment

A notice announcing the availability of fiscal year (FY) 2001 funds for a grant program for an Evaluation of Breast Cancer Incidence in DuPage County, Illinois, was published in the Federal Register on August 7, 2001, [Vol. 66, No. 152, Page 41245]. This notice is amended as follows:

On page 41245, First Column, Under Section A, Second Paragraph, Second Sentence, Lines 6-11, delete: “Through this program, the DuPage County Health Department will be able to determine the incidence of breast cancer in the county and to outline a plan to address the programmatic and health issues identified.” and change to: “Through this program, the Illinois Department of Health will be able to determine the incidence of breast cancer in DuPage County and to outline a plan to address the programmatic and health issues identified in the county.”

On Page 41245, First Column, Under Section B, First Sentence, delete: “Assistance will be provided to the DuPage County Health Department in Wheaton, Illinois.” and change to: “Assistance will be provided only to the Illinois Department of Health.” On Page 41245, First Column, Under Section B, Third Sentence, delete: “Eligibility is limited to the DuPage County Health Department * * *” and change to: “Eligibility is limited to the Illinois Department of Health * * *”.

Dated: August 23, 2001.
John L. Williams,
Director, Procurement and Grants Office, Centers for Disease Control and Prevention.

[FR Doc. 01-21785 Filed 8-28-01; 8:45 am]

BILLING CODE 4163-18-P